DEPARTMENT OF TRANSPORTATION

Federal Aviation Administration

14 CFR Part 39

[Docket No. FAA-2017-0060; Directorate Identifier 2016-SW-090-AD; Amendment 39-18949; AD 2017-14-05]

RIN 2120-AA64

Airworthiness Directives; Airbus Helicopters

AGENCY: Federal Aviation Administration (FAA), Department of Transportation (DOT).

ACTION: Final rule; request for comments.

SUMMARY: We are adopting a new airworthiness directive (AD) for Airbus Helicopters Model SA330J helicopters. This AD requires replacing certain hydraulic pumps and is prompted by reports of broken screws that attach the cover of the hydraulic pump. The actions of this AD are intended to prevent an unsafe condition on these products.

DATES: This AD becomes effective July 26, 2017.

We must receive comments on this AD by September 11, 2017.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2017-0060; or in person at the Docket Operations Office between 9 a.m. and 5 p.m., Monday through Friday, except Federal holidays. The AD docket contains this AD, the European Aviation Safety Agency (EASA) AD, the economic evaluation, any comments received, and other information. The street address for the Docket Operations Office (telephone 800-647-5527) is in the ADDRESSES section. Comments will be available in the AD docket shortly after receipt.

For service information identified in this final rule, contact Airbus Helicopters, 2701 N. Forum Drive, Grand Prairie, TX 75052; telephone (972) 641-0000 or (800) 232-0323; fax (972) 641-3775; or at https://www.airbushelicopters.com/techpub/FO/scripts/myFO_login.php. You may review the referenced service information at the FAA, Office of the Regional Counsel, Southwest Region, 10101 Hillwood Pkwy, Room 6N-321, Fort Worth, TX 76177.

FOR FURTHER INFORMATION CONTACT: Matt Fuller, Senior Aviation Safety Engineer, Safety Management Group, Rotorcraft Directorate, FAA, 10101 Hillwood Pkwy, Fort Worth, TX 76177; telephone (817) 222-5110; email matthew.fuller@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

EASA, which is the Technical Agent for the Member States of the European Union, has issued EASA Emergency AD No. 2016-264-E, dated December 22, 2016, to correct an unsafe condition for Airbus Helicopters Model SA330J helicopters. EASA advises of reports of broken screws that attach the cover of the hydraulic pump. A subsequent investigation identified a batch of screws delivered between July 1, 2015, and November 1, 2016, that have intrinsic embrittlement and reduced mechanical properties. Hydrogen was introduced into this batch of screws during production, causing the screws to become brittle and lack sufficient strength. These screws were installed in a batch of hydraulic pumps, part number (P/N) FR65WEO2005-175A, identified by certain serial numbers, EASA advises.

This condition, if not detected and corrected, could lead to the failure of a cover bolt and loss of fluid from the hydraulic pump, resulting in loss of the hydraulic system and subsequent loss of helicopter control. As a result, EASA AD No. 2016-264-E requires replacing the hydraulic pumps.

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs.

Related Service Information

We reviewed Airbus Helicopters Emergency Alert Service Bulletin No. SA330-29.12, Revision 0, dated December 22, 2016 (Airbus EASB), for Model SA330J helicopters and military model SA330L, SA330Jm, SA330S1, and SA330Sm helicopters. The Airbus EASB specifies removing Nexter Mechanics hydraulic pumps P/N FR65WEO2005-175A with certain serial numbers. If both the right-hand (RH) and left-hand (LH) hydraulic pumps have an affected P/N and serial number, the Airbus EASB specifies replacing the RH hydraulic pump before further flight and the LH hydraulic pump within 110 flying hours or 6 months. If only one hydraulic pump has an affected P/N and serial number, the Airbus EASB specifies replacing it within 110 flying hours or 6 months. The Airbus EASB also specifies that, for 6 months after receipt of the Airbus EASB, before installing an affected hydraulic pump it must be “returned to conformity” by complying with Nexter Mechanics Alert Service Bulletin No. NM/INGE/16-140, Revision 0, dated December 22, 2016 (Nexter ASB). After 6 months or 110 flying hours, whichever occurs first, the Airbus EASB states the affected hydraulic pumps are unfit for flight.

AD Requirements

This AD requires, within 15 hours time-in-service (TIS), removing the RH hydraulic pump if both hydraulic pumps are listed in the applicability section of this AD. This AD also prohibits installing an affected hydraulic pump on any helicopter.

Differences Between This AD and the EASA AD

The EASA AD requires replacing the LH hydraulic pump with a serviceable part within 110 hours TIS or 6 months, whichever comes first, if both the LH and RH hydraulic pumps are affected parts. The EASA AD also requires, if only one hydraulic pump is an affected part, replacing it with a serviceable part within 110 hours TIS or 6 months, whichever comes first. This AD makes no such requirements. We are considering requiring those actions. However, the planned compliance time for those actions would allow enough time to provide notice and opportunity for prior public comment. The EASA AD allows a hydraulic pump to be installed if it has been repaired in accordance with the Nexter ASB, while this AD does not.

Costs of Compliance

We estimate that this AD affects 24 helicopters and that labor costs average $85 per work-hour. Based on these estimates, we expect that replacing a hydraulic pump requires 2 work-hours and parts cost $2,500 for a total cost of $2,670 per helicopter and $64,080 for the U.S. fleet.

FAA's Justification and Determination of the Effective Date

Providing an opportunity for public comments prior to adopting these AD requirements would delay implementing the safety actions needed to correct this known unsafe condition. Therefore, we find that the risk to the flying public justifies waiving notice and comment prior to the adoption of this rule because the required corrective actions must be accomplished within 15 hours TIS, a very short time period based on the typical utilization rate of these helicopters in off-shore oil operations.

Since an unsafe condition exists that requires the immediate adoption of this AD, we determined that notice and opportunity for prior public comment before issuing this AD are impracticable and contrary to the public interest and that good cause exists to make this AD effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-14-05 Airbus Helicopters: Amendment 39-18949; Docket No. FAA-2017-0060; Directorate Identifier 2016-SW-090-AD.

(a) Applicability

This AD applies to Airbus Helicopters Model SA330J helicopters, certificated in any category, with a left-hand and a right-hand hydraulic pump part number FR65WEO2005-175A with a serial number 4108, 4141, 4177, 4227, 4241, 4284, 4377, 4422, 4570, 4573, 4574, 4641, 4649, 4668, 4766, 4802, 4821, 4831, 4837, 4888, 4896, 4946, 4985, 5023, 5071, 5304, 5366, 5376, 5409, 5442, 5486, 5599, 5630, 94075/01, or 94048/01 installed.

(b) Unsafe Condition

This AD defines the unsafe condition as failure of a screw attaching the hydraulic pump cover. This condition could result in failure of a cover bolt and loss of fluid from the hydraulic pump, resulting in loss of the hydraulic system and subsequent loss of helicopter control.

(c) Effective Date

This AD becomes effective July 26, 2017.

(d) Compliance

You are responsible for performing each action required by this AD within the specified compliance time unless it has already been accomplished prior to that time.

(e) Required Actions

(1) Within 15 hours time-in-service, replace the right-hand hydraulic pump with an airworthy hydraulic pump that is not listed in paragraph (a) of this AD.

(2) After the effective date of this AD, do not install on any helicopter a hydraulic pump that is listed in paragraph (a) of this AD.

(f) Special Flight Permits

Special flight permits are prohibited.

(g) Alternative Methods of Compliance (AMOCs)

(1) The Manager, Safety Management Group, FAA, may approve AMOCs for this AD. Send your proposal to: Matt Fuller, Senior Aviation Safety Engineer, Safety Management Group, Rotorcraft Directorate, FAA, 10101 Hillwood Pkwy, Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Airbus Helicopters Emergency Alert Service Bulletin (EASB) No. SA330-29.12, Revision 0, dated December 22, 2016, and Nexter Mechanics Alert Service Bulletin No. NM/INGE/16-140, Revision 0, dated December 22, 2016, which are not incorporated by reference, contain additional information about the subject of this AD. For service information identified in this AD, contact Airbus Helicopters, 2701 N. Forum Drive, Grand Prairie, TX 75052; telephone (972) 641-0000 or (800) 232-0323; fax (972) 641-3775; or at http://www.airbushelicopters.com/techpub. You may review a copy of the service information at the FAA, Office of the Regional Counsel, Southwest Region, 10101 Hillwood Pkwy, Room 6N-321, Fort Worth, TX 76177.

(2) The subject of this AD is addressed in European Aviation Safety Agency (EASA) AD No. 2016-264-E, dated December 22, 2016. You may view the EASA AD on the Internet at http://www.regulations.gov by searching for and locating it in Docket No. FAA-2017-0060.

(i) Subject

Joint Aircraft Service Component (JASC) Code: 2913, Hydraulic Pump (Electric/Engine) Main.

Issued in Fort Worth, Texas, on June 30, 2017.
Scott A. Horn,
Acting Manager, Rotorcraft Directorate, Aircraft Certification Service.

[FR Doc. 2017-14372 Filed 7-10-17; 8:45 am]

BILLING CODE 4910-13-P